DEPARTMENT OF THE INTERIOR

Bureau of Land Management

[BLM_AK_FRN_MO4500181601; F-86061, F-16298, F-16299, F-16301, AA-61299, F-16304, F-85667, AA-61005, F-85702, AA-66614, AA-65515, AA-65516, AA-65513, AA-61301, AA-65514, F-16302]

Public Land Order No. 7947; Rescission of Public Land Order Nos. 7899, 7900, 7901, 7902, and 7903; Alaska.

AGENCY: Bureau of Land Management, Interior.

ACTION: Public Land Order.

SUMMARY: This Order rescinds Public Land Order Nos. 7899 (see 86 FR 5236), and 7900, 7901, 7902, and 7903 (unpublished), which purported to revoke Alaska Native Claims Settlement Act (ANCSA) 17(d)(1) withdrawals affecting approximately 28 million acres of public lands within the Bay, Bering Sea-Western Interior, East Alaska, Kobuk-Seward Peninsula, and Ring of Fire planning areas.

DATES: This PLO takes effect on August 29, 2024.

FOR FURTHER INFORMATION CONTACT: Brittany Templeton, Realty Specialist, Bureau of Land Management (BLM) Alaska State Office, 222 West Seventh Avenue, Mailstop #13, Anchorage, AK 99513-7504, (907) 271-4214, or btempleton@blm.gov. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: The Department identified certain procedural and legal defects in the decision-making processes for PLO Nos. 7899 (see 86 FR 5236), 7900, 7901, 7902, and 7903 (unpublished) (collectively, “the PLOs”), including insufficient analysis under the National Environmental Policy Act (NEPA), failure to comply with section 106 of the National Historic Preservation Act (NHPA), and failure to secure consent from the Department of Defense (DOD) with regard to lands under DOD administration as required by section 204(i) of FLPMA (43 U.S.C. 1714(i)). The Bureau of Land Management (BLM) has since analyzed the impacts of revoking the ANCSA 17(d)(1) withdrawals and opening the lands as stated in the five PLOs in the ANSCA 17(d)(1) Withdrawals Final Environmental Impact Statement under NEPA (see 89 FR 55654), consulted on the action under the NHPA, and sought consent from agencies managing overlapping withdrawals pursuant to section 204(i) of FLPMA. The Secretary has determined, after the BLM documented compliance with those laws, that revocation would not protect the public interest and has therefore selected the No Action Alternative as set forth in a Record of Decision signed on August 23, 2024. This Order rescinds as improperly issued the five PLOs that would partially revoke the ANCSA 17(d)(1) withdrawals across five planning areas.

Order

By virtue of the authority vested in the Secretary of the Interior by the Federal Land Policy and Management Act, 43 U.S.C. 1701 et seq., including, but not limited to, the withdrawal revocation authority provided by section 204 of that Act, 43 U.S.C. 1714, and other authority, including her authority to correct legal errors of the Department, it is ordered as follows:

Subject to valid existing rights, Public Land Order Nos. 7899 (86 FR 5236), 7900, 7901, 7902, and 7903 are hereby rescinded as improperly issued; therefore, the ANCSA 17(d)(1) withdrawals remain in place to protect the public interest in important resource values insofar as they affect the Federal lands described in PLO Nos. 7899-7903 in the Bay, Bering Sea-Western Interior, East Alaska, Kobuk-Seward Peninsula, and Ring of Fire planning areas. The areas described aggregate a total of approximately 28,000,000 acres.

Deb Haaland,
Secretary of the Interior.

[FR Doc. 2024-19447 Filed 8-28-24; 8:45 am]

BILLING CODE 4331-10-P